DEPARTMENT OF JUSTICE

[OMB Number 1110-0055]

Agency Information Collection Activities; Proposed eCollection eComments Requested; Extension of a Previously Approved Collection; NICS Firearm Disposition Record

AGENCY: Federal Bureau of Investigation, Department of Justice.

ACTION: 60-Day notice.

SUMMARY: The Federal Bureau of Investigation (FBI), Criminal Justice Information Services Division, Department of Justice (DOJ), will be submitting the following information collection request to the Office of Management and Budget (OMB) for review and approval in accordance with the Paperwork Reduction Act of 1995.

DATES: Comments are encouraged and will be accepted for 60 days until November 14, 2023.

FOR FURTHER INFORMATION CONTACT: If you have additional comments especially on the estimated public burden or associated response time, suggestions, or need a copy of the proposed information collection instrument with instructions or additional information, please contact the Federal Bureau of Investigation, Criminal Justice Information Services Division, National Instant Criminal Background Check System Section, 1000 Custer Hollow Road, Clarksburg, West Virginia 26306, nicsliaison@fbi.gov or (304) 625-2000.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: In November 1993, the Brady Handgun Violence Prevention Act of 1993 (Brady Act) Public Law 103-159, was signed into law and required federal firearms licensees (FFL) to request background checks on individuals attempting to purchase or receive a firearm. The permanent provisions of the Brady Act, which went into effect on November 30, 1998, required the United States Attorney General to establish a NICS that FFLs may contact by telephone, or other electronic means in addition to telephone for information to be supplied immediately on whether the receipt of a firearm by a prospective transferee would violate Section 922 (g) or (n) of Title 18, United States Code, or state law. There are additional authorized uses of NICS found at Title 28, CFR 25.6(j). The FBI authorized CJAs to initiate a NICS background check to assist their transfer of firearms to private individuals as a change to 28 CFR 25.6(j) in the Federal Register.

Overview of This Information Collection

1. Type of Information Collection: Extension of a previously approved collection.

2. The Title of the Form/Collection: NICS Firearm Disposition Record.

3. The agency form number, if any, and the applicable component of the Department sponsoring the collection: Form number: None. Component: FBI, CJIS Division.

4. Affected public who will be asked or required to respond, as well as the obligation to respond: Affected Public: State, local and tribal governments, Federal Government. The obligation to respond is mandatory per 28, CFR 25.6(j).

5. An estimate of the total number of respondents and the amount of time estimated for an average respondent to respond: The total annual respondent entities taking advantage of this disposition process is 20,172 CJAs. It is estimated the time burden for the CJAs associated with this collection is three minutes per transaction, depending on the individual circumstance.

6. An estimate of the total annual burden (in hours) associated with the collection: Anticipating a similar volume, at three minutes per transaction, the estimated total annual burden is 6,301 (6,300.7) hours.

7. An estimate of the total annual cost burden associated with the collection, if applicable: $0.

Total Burden Hours
Activity | Number of respondents | Frequency | Total annual responses | Time per response (min) | Total annual burden (hours)
NICS Firearm Disposition Record. | 20,172 | 6.24697601 | 126,014 | 3 | 6,301
Unduplicated Totals | 20,172 |  | 126,014 |  | 6,301

If additional information is required contact: Darwin Arceo, Department Clearance Officer, United States Department of Justice, Justice Management Division, Policy and Planning Staff, Two Constitution Square, 145 N Street NE, 4W-218, Washington, DC.

Dated: August 28, 2023.
Darwin Arceo,
Department Clearance Officer for PRA, U.S. Department of Justice.

[FR Doc. 2023-19943 Filed 9-14-23; 8:45 am]

BILLING CODE P